DEPARTMENT OF HOMELAND SECURITY

Coast Guard

33 CFR Part 27

[Docket No. USCG-2009-0891]

RIN 1625-AB40

Federal Civil Penalties Inflation Adjustment Act—2009 Implementation

AGENCY: Coast Guard, DHS.

ACTION: Final rule; correction.

SUMMARY: The Coast Guard is correcting a final rule that appeared in the Federal Register of December 23, 2009 (74 FR 68150). The document concerned the adjustment of fines and other civil monetary penalties.

DATES: Effective January 13, 2010.

FOR FURTHER INFORMATION CONTACT: Ms. Heather Young, CG-5232, Coast Guard; telephone 202-372-1022.

SUPPLEMENTARY INFORMATION: In FR Doc. E9-30493 appearing on page 68150 in the second column under DATES, correct “This final rule is effective 30 days after December 23, 2009” to read “This final rule is effective January 22, 2010”.

Dated: January 6, 2010.
Mark W. Skolnicki,
Commander, U.S. Coast Guard, Acting Chief, Office of Regulations and Administrative Law.

[FR Doc. 2010-432 Filed 1-12-10; 8:45 am]

BILLING CODE 9110-04-P